DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Mohawk Adirondack and Northern Railroad Corporation

[Waiver Petition Docket Number FRA-2009-0063]

The Mohawk Adirondack and Northern Railroad (MHWA), a Class III railroad, seeks a waiver of compliance from the requirements of 49 CFR 223.11 Requirements for existing locomotives. Specifically, MHWA has petitioned FRA for a waiver for one 80-ton, 470 horsepower diesel electric locomotive numbered 1670. This locomotive was built for the United States Air Force by General Electric in March 1952.

MHWA operates this locomotive on a terminal/switching railroad at the former Griffiss Air Force Base in Rome, New York, presently called the Griffiss Industrial Park. MHWA operates at speeds of 10 miles per hour (or less) and hauls 1-3 cars on a twice weekly basis. The locomotive is equipped with safety laminate glass (AS-1, AS-2) and is serviced & maintained by MHWA at Rome, New York. MHWA states that the railroad is private and will occasionally interchange to the general system which is accomplished with CSX Railroad interchange tracks at Rome, NY.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0063) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on November 23, 2009.
Grady C. Cothen, Jr.,
Deputy Associate Administrator for Safety Standards and Program Development.

[FR Doc. E9-28483 Filed 11-27-09; 8:45 am]

BILLING CODE 4910-06-P